DEPARTMENT OF COMMERCE

National Oceanic and Atmospheric Administration

[I.D. 022205D]

North Pacific Fishery Management Council; Teleconference Meeting

AGENCY: National Marine Fisheries Service (NMFS), National Oceanic and Atmospheric Administration (NOAA), Commerce.

ACTION: North Pacific Fishery Management Council Ecosystem Committee; teleconference meeting.

SUMMARY: The North Pacific Fishery Management Council (Council) Ecosystem Committee will meet by teleconference; 907-271-2896.

DATES: March 14, 2005, 1 pm - 5 pm (AST).

ADDRESSES: North Pacific Fishery Management Council, Anchorage, Alaska.

Council address: North Pacific Fishery Management Council, 605 W. 4th Ave., Suite 306, Anchorage, AK 99501-2252.

FOR FURTHER INFORMATION CONTACT: Chris Oliver, Council staff, Phone: 907-271-2809.

SUPPLEMENTARY INFORMATION: The Council will review a draft discussion paper suggesting ways for the NPFMC to be involved in the development of Ecosystem Approaches to Management of the Alaska large marine ecosystem.

Special Accommodations

These meetings are physically accessible to people with disabilities. Requests for sign language interpretation or other auxiliary aids should be directed to Gail Bendixen at 907-271-2809 at least 7 working days prior to the meeting date.

Dated: February, 22, 2005.
Peter H. Fricke,
Acting Director, Office of Sustainable Fisheries, National Marine Fisheries Service.

[FR Doc. 05-3705 Filed 2-24-05; 8:45 am]

BILLING CODE 3510-22-S